DEPARTMENT OF JUSTICE

Foreign Claims Settlement Commission

AGENCY: Foreign Claims Settlement Commission of the United States, Department of Justice.

ACTION: Notice. Commencement of Claims Program.

SUMMARY: This notice announces the commencement by the Foreign Claims Settlement Commission (“Commission”) of a program to adjudicate claims of certain individuals, as defined below, for compensation under the Guam World War II Loyalty Recognition Act.

DATES: These claims can now be filed with the Commission and the deadline for filing will be June 20, 2018.

FOR FURTHER INFORMATION CONTACT: Brian M. Simkin, Chief Counsel, Foreign Claims Settlement Commission of the United States, 600 E Street NW., Room 6002, Washington, DC 20579, Tel. (202) 616-6975, FAX (202) 616-6993.

SUPPLEMENTARY INFORMATION:

Notice of Commencement of Claims Adjudication Program and of Deadline for Filing of Claims

Pursuant to the authority conferred under section 1705(b)(2) of the Guam World War II Loyalty Recognition Act (Title XVII, Pub. L. 114-328, 114th Cong., approved December 23, 2016) (“Act”), the Foreign Claims Settlement Commission (“Commission”) hereby gives notice of the commencement of a program for adjudication of claims of certain individuals for compensation under the Act for harms suffered as a result of the attack and occupation of Guam by Imperial Japanese military forces during World War II, or incident to the liberation of Guam by United States military forces.

This program is open to two categories of claimants—(1) survivors of “compensable Guam decedents” and (2) “compensable Guam victims.” The first category includes survivors (i.e., the spouse, children, or parents) of a Guam resident who died as a result of the attack and occupation of Guam by Imperial Japanese forces during World War II, or incident to the liberation of Guam by U.S. forces, and whose death would have been eligible for compensation under the Guam Meritorious Claim Act of 1945. The second category, “compensable Guam victims,” includes individuals who, as a result of the attack and occupation of Guam by Imperial Japanese forces during World War II or incident to the liberation of Guam by U.S. forces, suffered any of the following: Rape or serious personal injury (such as loss of a limb, dismemberment, or paralysis), forced labor or personal injury (such as disfigurement, scarring, or burns), forced march, internment, and hiding to evade internment. Both compensable Guam victims and survivors of compensable Guam decedents must have been living on the date of enactment of the Act (December 23, 2016) to be eligible for payments.

Any person wishing to file a claim must request and complete an official claim form. Completed claim forms and supporting documentation must be submitted no later than June 20, 2018.

The Commission will administer this claims adjudication program in accordance with section 1705 of the Act and the Commission's regulations, which are published in Chapter V of Title 45, Code of Federal Regulations (45 CFR 500 et seq.). In particular, attention is directed to subsection 500.3(c) of these regulations which, based on section 1705(b)(6) of the Act, limits the amount of attorney's fees that may be charged for legal representation before the Commission. Copies of the regulations and official claim forms are available electronically at https://www.justice.gov/fcsc/. Paper copies of these materials will also be available from the Commission upon request. After a decision approving a claim becomes final, the Commission will certify such decision to the Secretary of the Treasury for authorization of a payment.

Brian M. Simkin,
Chief Counsel.

[FR Doc. 2017-12574 Filed 6-19-17; 8:45 am]

BILLING CODE 4410-01-P